DEPARTMENT OF JUSTICE

Notice of Lodging of Fourth Amendment to Consent Decree Under the Clean Air Act

Notice is hereby given that on July 31, 2012, a proposed Fourth Amendment to the Consent Decree entered in the case of United States, et al. v. Phillips 66 Company, et al., Civil Action No. H-05-0258, was lodged with the United States District Court for the Southern District of Texas.

Under the original Consent Decree, ConocoPhillips Company (“COPC”) agreed to implement innovative pollution control technologies to reduce emissions of nitrogen oxides, sulfur dioxide, and particulate matter from refinery process units at nine refineries owned and operated by COPC. COPC also agreed to adopt facility-wide enhanced benzene waste monitoring and fugitive emission control programs.

Subsequently, the Court entered First, Second, and Third Amendments to the Consent Decree. In addition, in 2007, a new owner (WRB Refining) of two of the refineries (the Wood River and Borger Refineries) was added as a defendant. Finally, on June 1, 2012, Phillips 66 Company (“Phillips 66”) was substituted for COPC as a defendant because Phillips 66 acquired ownership and operation of seven refineries and acquired operation, but not ownership, of the Wood River and Borger Refineries.

The proposed Fourth Amendment exclusively involves the refinery located in Trainer, Pennsylvania (“Trainer Refinery”). Under the proposed Fourth Amendment, an entity known as Monroe Energy, LLC (“Monroe Energy”) will assume all outstanding, uncompleted Consent Decree obligations at the Trainer Refinery because Phillips 66 sold the Trainer Refinery to Monroe Energy in June 2012. Simultaneously, Phillips 66 will be released from liability for all obligations at the Trainer Refinery.

In the proposed Fourth Amendment, the United States is joined by Co-Plaintiff the Commonwealth of Pennsylvania.

The Department of Justice will receive for a period of thirty (30) days from the date of this publication comments relating to the Fourth Amendment. Comments should be addressed to the Assistant Attorney General, Environment and Natural Resources Division, and either emailed to pubcomment-ees.enrd@usdoj.gov or mailed to P.O. Box 7611, U.S. Department of Justice, Washington, DC 20044-7611, and should refer to United States, et al. v. Phillips 66 Company, et al., D.J. Ref. No. 90-5-2-1-06722/1.

During the public comment period, the Fourth Amendment may be examined on the following Department of Justice Web site: http://www.usdoj.gov/enrd/Consent_Decrees.html. A copy of the Fourth Amendment may also be obtained by mail from the Consent Decree Library, P.O. Box 7611, U.S. Department of Justice, Washington, DC 20044-7611, or by faxing or emailing a request to “Consent Decree Copy” (EESCDCopy.ENRD@usdoj.gov), fax number (202) 514-0097; phone confirmation number (202) 514-5271. If requesting a copy from the Consent Decree Library by mail, please enclose a check in the amount of $4.75 (25 cents per page reproduction cost) payable to the U.S. Treasury or, if requesting by email or fax, forward a check in that amount to the Consent Decree Library at the address given above.

Maureen M. Katz,
Assistant Chief, Environmental Enforcement Section, Environment and Natural Resources Division.

[FR Doc. 2012-19129 Filed 8-3-12; 8:45 am]

BILLING CODE 4410-15-P